DEPARTMENT OF COMMERCE

International Trade Administration

[A-570-954]

Certain Magnesia Carbon Bricks From the People's Republic of China: Rescission of Antidumping Duty Administrative Review

AGENCY: Enforcement and Compliance, International Trade Administration, Department of Commerce.

SUMMARY: The Department of Commerce (the Department) is rescinding the administrative review of the antidumping duty order on certain magnesia carbon bricks from the People's Republic of China for the period of review (POR), September 1, 2015, through August 31, 2016.

DATES: Effective March 6, 2017.

FOR FURTHER INFORMATION CONTACT: Kenneth Hawkins, AD/CVD Operations, Office V, Enforcement and Compliance, International Trade Administration, U.S. Department of Commerce, 1401 Constitution Avenue NW., Washington, DC 20230; telephone 202.482.6491.

SUPPLEMENTARY INFORMATION:

Background

On September 8, 2016, the Department published a notice of opportunity to request an administrative review of the antidumping duty order on certain magnesia carbon bricks from the People's Republic of China for the POR.¹ On November 9, 2016, based on a timely request for review by Petitioner,² the Department published in the Federal Register a notice of initiation of an administrative review of the antidumping duty order on certain magnesia carbon bricks, covering the POR.³ On February 3, 2017, Petitioner withdrew its request for an administrative review of these companies in its entirety.⁴

¹ See Antidumping or Countervailing Duty Order, Finding, or Suspended Investigation; Opportunity to Request Administrative Review, 81 FR 62096 (September 8, 2016).

² The Magnesia Carbon Bricks Fair Trade Committee is an ad hoc association comprised of the following three U.S. producers of magnesia carbon bricks: Resco Products, Inc.; Magnesita Refractories Company; and Harbison Walker International, Inc. (collectively Petitioner). See letter from Petitioner Re: Magnesia Carbon Bricks from the People's Republic of China: Request for Administrative Review, dated September 30, 2016.

³ See Initiation of Antidumping and Countervailing Duty Administrative Reviews, 81 FR 78778 (November 9, 2016) (Initiation).

⁴ See letter from Petitioners, Re: Magnesia Carbon Bricks from the People's Republic of China Withdrawal of Request for Administrative Review, dated February 3, 2017. These Companies are: Fedmet Resources Corportion; Fengchi Imp. and Exp. Co., Ltd. Of Haicheng City; Fengchi Mining Co., Ltd. Of Haicheng City; Fengchi Refractories Co., of Haicheng City; Dashiqiao City Guancheng Refractor Co., Ltd. (aka Dashiqiao City Guancheng Refractory Co., Ltd.); Jiangsu Sujia Group New Materials Co., Ltd.; Liaoning Fucheng Refractories Group Co., Ltd.; Liaoning Fucheng Special Refractory Co., Ltd.; Liaoning Jiayi Metals & Minerals Co., Ltd.; Puyang Refractories Group Co., Ltd.; RHI Refractories Liaoning Co., Ltd.; Yingkou Bayuquan Refractories Co., Ltd.; Yingkou Dalmond Refractories Co., Ltd.; Yingkou Guangyang Co., Ltd.; Yingkou Jiahe Refractories Co., Ltd.; Yingkou Kyushu Refractories Co., Ltd.; Yingkou New Century Refractories Ltd.; and, Yingkou Wonjin Refractory Material Co., Ltd.

Rescission of Review

Pursuant to 19 CFR 351.213(d)(1), the Department will rescind an administrative review, in whole or in part, if the party that requested the review withdraws its request within 90 days of the publication of the notice of initiation of the requested review. Petitioner withdrew its request within the 90-day deadline. No other party requested an administrative review of the antidumping duty order. As a result, we are rescinding the administrative review of certain magnesia carbon bricks from the People's Republic of China for the POR.

Assessment

The Department will instruct U.S. Customs and Border Protection (CBP) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 27, 2017.
James Maeder,
Senior Director, Office I, Antidumping and Countervailing Duty Operations.

[FR Doc. 2017-04266 Filed 3-3-17; 8:45 am]

BILLING CODE 3510-DS-P